DEPARTMENT OF ENERGY

Federal Energy Regulatory Commission

[Docket Nos. EL00-95-000, EL00-98-000, and ER02-1656-000]

San Diego Gas & Electric Company, Complainant, v. Sellers of Energy and Ancillary Services Into Markets Operated by the California Independent System Operator and the California Power Exchange, Respondents; Investigation of Practices of the California Independent System Operator and the California Power Exchange; California Independent System Operator (MD02); Notice of Technical Conference

July 29, 2002.

As directed by the Commission order issued on July 17, 2002 in Docket No. ER02-165-000 and EL01-68-017, 100 FERC ¶ 61,060, the Federal Energy Regulatory Commission Staff is convening a technical conference to facilitate continued discussions between the California Independent System Operator Corporation (CAISO), market participants, state agencies and other interested participants on the development of a revised market design for the CAISO. Staff will issue an agenda the week of August 5, 2002. The conference will be held in San Francisco, California, at the Renaissance Parc 55 Hotel, 55 Cyril Magnin Street, San Francisco, CA, on August 13, 14 and 15, 2002, beginning at 9 a.m.

For additional information concerning the conference, interested persons may contact Susan G. Pollonais at (202) 208-0011 or by electronic mail at susan.pollonais@ferc.gov. No telephone communication bridge will be provided at this technical conference.

Linwood A. Watson, Jr.,
Deputy Secretary.

[FR Doc. 02-19509 Filed 8-1-02; 8:45 am]

BILLING CODE 6717-01-P